DEPARTMENT OF TRANSPORTATION

Federal Railroad Administration

[Docket Number FRA-1999-6135]

Petition for Waiver of Compliance

In accordance with Part 211 of Title 49 Code of Federal Regulations (CFR), notice is hereby given that the Federal Railroad Administration (FRA) has received a request for a waiver of compliance from certain requirements of its safety standards from New Jersey Transit (NJT). NJT seeks a modification to the original terms and conditions of its waiver of compliance that was granted in 1999. As part of NJT's construction of a future Pennsauken transfer station (allowing transfers between Atlantic City commuter trains and the River Line), NJT is lengthening the Pennsauken siding at Control Point (CP) 55 to now include Minson siding; incorporating trackwork improvements and changes to the signal and train control (S&TC) system. NJT submits that this request is consistent with the waiver process for shared use. (See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).)

Specifically, in April 2007, FRA approved NJT's S&TC improvements between CP45 and CP70 (which includes CP Ross, Minson siding, and Pennsauken siding) along its River Line rail fixed guideway light-rail transit system. NJT calls this `scripted temporal separation,' which maintains the required temporal separation, but provides for superior use of the existing infrastructure by expanding the passenger period, and allowing Conrail some increased flexibility in and out of the Minson siding to Pavonia Yard. The addition of a future Pennsauken transfer station on the single track south of CP Ross at Milepost 4.9 will add time to trains operating northbound and southbound that meet at CP Ross, thus resulting in significant headway degradation. NJT claims that by lengthening Pennsauken siding to include Minson siding, headway degradation will be mitigated. This petition serves to notify FRA of NJT's plan to modify the trackwork, S&TC, and operational plans as part of this Pennsauken siding lengthening and Pennsauken transfer station construction.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6135) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by June 1, 2012 will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review the U.S. Department of Transportation's complete Privacy Act Statement in the Federal Register published on April 11, 2000 (Volume 65, Number 70; Page 19477), or online at http://www.dot.gov/privacy.html.

Issued in Washington, DC, on April 11, 2012.
Ron Hynes,
Acting Deputy Associate Administrator for Regulatory and Legislative Operations.

[FR Doc. 2012-9127 Filed 4-16-12; 8:45 am]

BILLING CODE 4910-06-P